DEPARTMENT OF TRANSPORTATION

Federal Transit Administration

Transfer of Federally Assisted Land or Facility

AGENCY: Federal Transit Administration, DOT.

ACTION: Notice of intent to transfer Federally assisted land or facility.

SUMMARY: Section 5334(h) of the Federal Transit Laws, as codified, 49 U.S.C. 5301, et seq., permits the Administrator of the Federal Transit Administration (FTA) to authorize a recipient of FTA funds to transfer land or a facility to a public body for any public purpose with no further obligation to the Federal Government if, among other things, no Federal agency is interested in acquiring the asset for Federal use. Accordingly, FTA is issuing this Notice to advise Federal Agencies that the Michigan Department of Transportation intends to transfer the former transportation operations and maintenance facility to the City of Holland. The physical address of the facility is 429 24th Street, Holland, Michigan, and it is surrounded by residential, commercial and other exempt properties.

DATES: Effective Date: Any Federal agency interested in acquiring the facility must notify the FTA Region V Office of its interest by August 25, 2016.

ADDRESSES: Interested parties should notify the Regional Office by writing to Marisol R. Simón, Regional Administrator, Federal Transit Administration, 200 West Adams Street, Suite 320, Chicago, IL 60606.

FOR FURTHER INFORMATION CONTACT: Kathryn Loster, Regional Counsel, at 312-353-3869.

SUPPLEMENTARY INFORMATION:

Background

49 U.S.C. Section 5334(h) provides guidance on the transfer of assets no longer needed. Specifically, if a recipient of FTA assistance decides an asset acquired at least in part with federal assistance is no longer needed for the purpose for which it was acquired, the Secretary of Transportation may authorize the recipient to transfer the asset to a local governmental authority to be used for a public purpose with no further obligation to the Government. 49 U.S.C. Section 5334(h)(l).

Determinations

The Secretary may authorize a transfer for a public purpose other than public transportation only if the Secretary decides:

(A) The asset will remain in public use for at least 5 years after the date the asset is transferred;

(B) There is no purpose eligible for assistance under this chapter for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This document implements the requirements of 49 U.S.C. Section 5334(h)(l)(D). Accordingly, FTA hereby provides notice of the availability of the land or facility further described below. Any Federal agency interested in acquiring the affected facility should promptly notify the FTA.

If no Federal agency is interested in acquiring the existing facility, FTA will make certain that the other requirements specified in 49 U.S.C. Section 5334(h)(1)(A) through (C) are met before permitting the asset to be transferred.

The 9,564 square foot facility is situated on a rectangular, 286,595 (approximate) square foot city-owned parcel situated between several other city-owned buildings. The land will be retained by the City of Holland. The facility is an industrial-type facility that includes a front office and/or administration section as well as a large, attached, multi-purpose shop/warehouse in the back. The land on which this building sits is approximately 6.5 acres with dimensions of 250 feet on its north side and 1,237 feet on its east side. Given that the building is located on city-owned land with no federal interest, and is surrounded by city-owned property without public street access, the building would need to be relocated.

The rear building section has exterior dimensions of 80 feet wide by 100 feet long by 18 feet in height. It is approximately 8,000 square feet in area. This space is generally open in layout but includes a block partitioned storage area of approximately 750 square feet. This rear building section has a concrete slab floor, masonry block exterior walls, flat metal truss roof and three large metal vehicular size doors.

The building improvements in the office area consist of concrete foundations, basic concrete slab floors, masonry side walls, sloped metal roof with gutters and downspouts, and various entry doors and windows. This front office section has package heating and cooling, a ceiling height of ten feet, and is 1,564 square feet in area. The interior includes three offices, various work areas, a utility room, a break area, two lavatories, and various small closets/storage rooms.

Other miscellaneous site improvements include several sidewalks and asphalt surfaced parking and vehicle maneuvering areas. The general condition of the building appears fair in overall condition from an architectural and structural standpoint and is approximately 27 years old with a 50 year depreciation. The legal property description is as follows: E 7.5 A OF SE ¼ OF NW ¼ EXC S 233 FT OF W. 100 FT, ALSO EXC N. 33 FT & S 33 FT. SEC 33 T5N R15W 6.7A M/L.

Marisol R. Simón,
Regional Administrator, FTA Region V.

[FR Doc. 2016-17626 Filed 7-25-16; 8:45 am]

BILLING CODE P